DEPARTMENT OF AGRICULTURE

Farm Service Agency

[Docket ID FSA-2023-0001]

Information Collection Request; Increasing Land, Capital, and Market Access Program

AGENCY: Farm Service Agency, United States Department of Agriculture.

ACTION: Notice; request for comments.

SUMMARY: In accordance with the Paperwork Reduction Act of 1995, the Farm Service Agency (FSA) is requesting comments from all interested individuals and organizations on an information collection request associated with the Increasing Land, Capital, and Market Access grant and cooperative agreement activity. The purpose of the Increasing Land, Capital, and Market Access Program is to fund projects that support a diverse set of farmers, ranchers, and forest landowners (producers) on the edge financially; moving them from surviving to thriving as they address core barriers to attain land, capital, and market access.

DATES: We will consider comments that we receive by March 31, 2023.

ADDRESSES: We invite you to submit comments on this notice. You may submit comments, identified by Docket ID: FSA-2023-0001 in the Federal eRulemaking Portal: Go to http://www.regulations.gov. Follow the online instructions for submitting comments.

You may also send comments to the Desk Officer for Agriculture, Office of Information and Regulatory Affairs, Office of Management and Budget, Washington, DC 20503. Copies of the information collection may be requested by contacting the FSA Increasing Land Access Team below. Additional information on the program is available at Increasing Land, Capital, and Market Access Program (usda.gov).

FOR FURTHER INFORMATION CONTACT: FSA Increasing Land Access Team; email: Land.Access@usda.gov. Persons with disabilities who require alternative mean for communication should contact the USDA's TARGET Center at (202) 720-2600 (voice).

SUPPLEMENTARY INFORMATION:

Description of Information Collection

Title: Increasing Land, Capital, and Market Access.

OMB Control Number: 0560-NEW.

Type of Request: New Collection.

Abstract: The purpose of the Increasing Land, Capital, and Market Access Program is to fund projects that support a diverse set of farmers, ranchers, and forest landowners (producers) on the edge financially; moving them from surviving to thriving as they address core barriers to attain land, capital, and market access. The Increasing Land, Capital, and Market Access Program will fund cooperative agreements or grants for projects that are designed to align with and respond to land, capital, and market access needs of the underserved farmers, ranchers, and forest landowners while concurrently providing wraparound technical assistance to ensure that program participants have the information, training, and customized support they require. FSA will make awards through grants.gov and will be collecting the initial report, and progress reports quarterly and annually.

Applicants, if selected for funding, are required to provide within 4 weeks after signing the grant or cooperative agreement, specific information related to target audience, work plan, approach activities and identified metrics and measures aligning with the delivery of work plan activities (initial report); and submit quarterly reports of project activities (progress report) every 90 days to the assigned National Program Leader and an annual reporting requirement (progress report) within 120 days, detailing as applicable:

1. Targeted audience(s) including demographic, geographic, and economic status;

2. Outreach to be conducted including number and type of events, dates, locations, activities, and producers anticipated and impacted;

3. Budget information including requested funding amount, allocation of requested funds, amount of funds provided for assistance directly benefitting underserved producers, and number of producers benefitted by use of funds;

4. Data identifying outcomes, improvements, and impact on underserved producers' business and financial conditions;

5. Anticipated outcomes including the estimated number of underserved producers who will have increased access to land, capital, and markets (including new markets);

6. How many underserved producers will be able to retain land or acquire new land; and

7. How many underserved producers are seeking and participating in USDA Farm Service Agency farm programs and farm loan programs, Natural Resources Conservation Service programs, Risk Management Agency Federal crop insurance, Rural Development loans, or grant programs or any other programs and services administered by USDA.

For the following estimated total annual burden on respondents, the formula used to calculate the total burden hours is the estimated average time per responses, in hours, multiplied by the estimated total annual responses.

Estimate of Annual Burden: Public reporting burden for the collection of information is estimated to average 14.6 hours per response.

Respondents: Increasing Land, Capital, and Market Access Program Partnerships Awardees.

Estimated Number of Respondents: 100.

Estimated Number of Responses per Respondent: 5.

Estimated Total Annual Number of Responses: 500.

Estimated Average Time per Response: 14.6 hours.

Estimated Total Annual Burden Hours: 7,300 hours.

We are requesting comments on all aspects of this information collection to help us:

(1) Evaluate whether the proposed collection of information is necessary for the proper performance of the functions of the agency, including whether the information will have practical utility;

(2) Evaluate the accuracy of the agency's estimate of the burden of the collection of information, including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any phone). Additionally, program information may be made available in languages other than English.

USDA is an equal opportunity provider, employer, and lender.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency.

[FR Doc. 2023-01754 Filed 1-27-23; 8:45 am]

BILLING CODE 3411-E5-P